ENVIRONMENTAL PROTECTION AGENCY

[ER-FRL-6699-5]

Environmental Impacts Statements; Notice of Availability

Responsible Agency: Office of Federal Activities, General Information (202) 564-7167 or http://www.epa.gov/compliance/nepa/

Weekly receipt of Environmental Impact Statements

Filed 05/26/2008 through 05/30/2008.

Pursuant to 40 CFR 1506.9.

EIS No. 20080215, Draft EIS, SFW, AK, Kenai National Wildlife Refuge Draft Revised Comprehensive Conservation Plan, Implementation, AK, Comment Period Ends: 09/01/2008, Contact: Rob Campellone 907-786-3982.

EIS No. 20080216, Final EIS, BPA, MT, Libby (FEC) to Troy Section of BPA's Libby to Bonner Ferry 115-kilovolt Transmission Line Project, Rebuilding Transmission Line between Libby and Troy, Lincoln County, MT , Wait Period Ends: 07/07/2008, Contact: Tish Eaton 503-230-3469.

EIS No. 20080217, Draft Supplement, COE, CA, Pacific Los Angeles Marine Terminal Crude Oil Marine Terminal, Construction and Operation of a New Marine Terminal from Pier 400, Berth 408 Project, U.S. Army COE Section 10 and 404 Permits, Port of Los Angeles, Los Angeles County, CA, Comment Period Ends: 07/29/2008, Contact: Dr. Spencer D. MacNeil 805-585-2152.

EIS No. 20080218, Draft EIS, AFS, SD, West Rim Project, Proposes to Implement Multiple Resource Management Actions, Northern Hills Ranger District, Black Hills National Forest, Lawrence County, SD, Comment Period Ends: 07/21/2008, Contact: Chris Stores 605-642-4622.

EIS No. 20080219, Draft EIS, NOA, 00, PROGRAMMATIC—Coral Restoration in the Florida Keys and Flower Garden Banks National Marine Sanctuaries, Implementation, FL, TX, and LA, Comment Period Ends: 07/21/2008, Contact: Alice Stratton 203-882-6515.

EIS No. 20080220, Draft EIS, FHW, CA, Jepson Parkway Project, Proposes to Upgrade and Link a Series of Existing Two and Four-Lane Roadways, Right-of-Way, Endangered Species Act Section 7 and U.S. Army COE Section 404 Permits, Solano County, CA, Comment Period Ends: 07/21/2008, Contact: Melanie Brent 510-286-5231.

EIS No. 20080221, Final EIS, AFS, ID, Bussel 484 Project Area, Manage the Project Area to Achieve Desired Future Conditions for Vegetation, Fire, Fuels, Recreation, Access, Wildlife, Fisheries, Soil and Water, Idaho Panhandle National Forest, St. Joe Ranger District, Shoshone County, ID , Wait Period Ends: 07/07/2008, Contact: Cornie Hudson 208-245-2531.

EIS No. 20080222, Draft EIS, COE, FL, South Florida Water Management District (SFWMD) Project, Propose to Construct and Operate Stormwater Treatment Areas STAs) on Compartment B and C of the Everglades Agriculture Area, U.S. Army COE Section 404 Permit, Palm Beach and Hendry Counties, FL, Comment Period Ends: 07/21/2008, Contact: Tori White 561-472-3517.

EIS No. 20080223, Final EIS, AFS, MT, Beartooth Ranger District Travel Management Planning, Proposing to Designate Routes for Public Motorized Use, and Change Management of Pack and Saddle Stock on Certain Trail, Beartooth Ranger District, Custer National Forest, Carbon, Stillwater, Sweet Grass, and Park Counties, MT, Wait Period Ends: 07/07/2008, Contact: Doug Epperly 406-657-6205, Ext-225.

EIS No. 20080224, Final EIS, STB, TX, Southwest Gulf Railroad Project, Construction and Operation Exemption, To Transport Limestone from Vulcan Construction Materials (VCM) Quarry to Del Rio Subdivision, Medina County, TX, Wait Period Ends: 07/07/2008, Contact: Diana Wood 202-245-0302.

EIS No. 20080225, Draft EIS, AFS, SD, South Project Area, Proposes Multiple Resource Management Actions, Hell Canyon Ranger District, Black Hills National Forest, Custer County, SD, Comment Period Ends: 07/21/2008, Contact: Betsy Koncerak 605-673-4853.

EIS No. 20080226, Final EIS, FRC, 00, Midcontinent Express Pipeline Project, (Docket Nos. CP08-6-000), Construction and Operation to Facilitate the Transport of 1,500, 000 dekatherms per day of Natural Gas from Production Fields in eastern TX, OK, and AR to Market Hub, Located in various counties and parishes in OK, TX, LA, MS and AL , Wait Period Ends: 07/07/2008, Contact: Patricia Schaub 1-866-208-3372.

Amended Notices

EIS No. 20060490, Draft EIS, OSM, 00, Black Mesa Project, Revisions to the Life-of-Mine Operation and Reclamation for the Kayenta and Black Mesa Surface-Coal Mining Operations, Right-of-Way Grant, Mohave, Navajo, Coconino and Yavapai Counties, AZ and Clark County, NV, Comment Period Ends: 07/07/2008, Contact: Dennis Winterringer 303-293-5048. Revision to FR Notice Published 12/01/2006: Correction to Contact Person Name and Telephone.

EIS No. 20080205, Revised Final EIS, FHW, TX, Grand Parkway/TX-99 Segment F-1 Highway Construction, U.S. 290 to TX-249, Funding and U.S. Army COE Section 404 Permit Issuance, Harris, Montgomery, Fort Bend, Liberty, Brazoria, Galveston and Chambers Counties, TX, Wait Period Ends: 07/10/2008, Contact: Brett Jackson 512-536-5946. Revision of FR Published 05/30/2008: Correction to Title and Contact Person Name and Telephone.

EIS No. 20080213, Final EIS, COE, NC, PCS Phosphate Mine Continuation, New Information on Additional Alternative “L” and “M”, Proposes to Expand its Existing Open Pit Phosphate Mining Operation into a 3,412 Acre Tract, Pamlico River and South Creek, near Aurora, Beaufort County, NC, Wait Period Ends: 07/09/2008, Contact: Tom Walker 828-271-7980 Ext. 222. Revision of FR Notice Published 05/30/2008: Extending Comment Period from 6/30/2008 to 07/09/2008.

Dated: June 3, 2008.
Robert W. Hargrove,
Director, NEPA Compliance Division, Office of Federal Activities.

[FR Doc. E8-12714 Filed 6-5-08; 8:45 am]

BILLING CODE 6560-50-P